ENVIRONMENTAL PROTECTION AGENCY

[FRL-11758-01-R3]

Clean Air Act Operating Permit Program; Order on Petition for Objection to State Operating Permit for Covanta Delaware Valley LP, Delaware Valley Resource Recovery

AGENCY: Environmental Protection Agency (EPA).

ACTION: Notice of final order on petition.

SUMMARY: The Environmental Protection Agency (EPA) Administrator signed an order dated November 2, 2023 granting in part and denying in part a petition dated June 23, 2023 from the Environmental Integrity Project, Clean Air Council, and Sierra Club. The petition requested that the EPA object to a Clean Air Act (CAA) title V operating permit issued by the Pennsylvania Department of Environmental Protection (PADEP) to Covanta Delaware Valley LP, Delaware Valley Resource Recovery for its waste-to-energy plant located in the City of Chester, Delaware County, Pennsylvania.

FOR FURTHER INFORMATION CONTACT: Paul Entwistle, Permits Branch, Air & Radiation Division, U.S. Environmental Protection Agency, Region III, 1600 John F. Kennedy Boulevard, Philadelphia, Pennsylvania 19103. The telephone number is (215) 814-2343. Mr. Entwistle can also be reached via electronic mail at entwistle.paul@epa.gov. The final order and petition are available electronically at: https://www.epa.gov/title-v-operating-permits/title-v-petition-database.

SUPPLEMENTARY INFORMATION: The EPA received a petition from the Environmental Integrity Project, Clean Air Council, and Sierra Club dated June 23, 2023, requesting that the EPA object to the issuance of operating permit no. 23-00004, issued by PADEP to Covanta Delaware Valley LP, Delaware Valley Resource Recovery in the City of Chester, Delaware County, Pennsylvania. On November 2, 2023, the EPA Administrator issued an order granting in part and denying in part the petition. The order itself explains the bases for the EPA's decision.

Sections 307(b) and 505(b)(2) of the CAA provide that a petitioner may request judicial review of those portions of an order that deny issues in a petition. Any petition for review shall be filed in the United States Court of Appeals for the appropriate circuit no later than April 29, 2024.

Cristina Fernández,
Air & Radiation Division Director, Region III.

[FR Doc. 2024-04027 Filed 2-26-24; 8:45 am]

BILLING CODE 6560-50-P